DEPARTMENT OF VETERANS AFFAIRS

Notice of Intent To Prepare an Integrated Environmental Impact Statement for the Department of Veterans Affairs, Black Hills Health Care System Proposed Improvements and Reconfiguration, Hot Springs and Rapid City, South Dakota

AGENCY: Department of Veterans Affairs (VA).

ACTION: Notice of intent

SUMMARY: Pursuant to the National Environmental Policy Act (NEPA) of 1969 (42 U.S.C. 4331 et seq.); the Council on Environmental Quality Regulations for Implementing the Procedural Provisions of NEPA (40 CFR Parts 1500-1508); VA's NEPA Implementing Guidance (38 CFR Part 26); Section 106 of the National Historic Preservation Act (NHPA) of 1966 (16 U.S.C. Part 470F); and the Advisory Council on Historic Preservation Procedures for the Protection of Historic Properties (36 CFR Part 800 et seq.), VA intends to prepare an integrated environmental impact statement (EIS) for the proposed improvements to and reconfiguration of the VA Black Hills Health Care System (VA BHHCS) services in the Hot Springs and Rapid City, South Dakota, vicinities. The proposed action would involve reconfiguring existing services and expanding points of access to health care within the VA BHHCS service area to better serve the health care needs and distribution of Veterans in the VA BHHCS service area over the next 20 to 30 years. That area includes parts of South Dakota, northwestern Nebraska, and eastern Wyoming. The effects and impacts to be addressed will include those identified in 40 CFR 1508.8; i.e., ecological, aesthetic, historic, cultural, economic, social, and health, whether direct, indirect, or cumulative. Both beneficial and detrimental effects of the proposed action will be identified as well. As part of the scoping process, VA seeks public input on the relative importance of these and other areas of environmental concern, and suggestions regarding additional environmental impacts that should be evaluated.

DATES: With the publication of this notice, VA is initiating the scoping process to identify issues and concerns to be addressed in the integrated EIS. Federal, state, and local agencies, environmental organizations, businesses, other interested parties and the general public are encouraged to submit their written comments identifying specific issues or topics of environmental concern that should be addressed. VA will hold two or more public scoping meetings within the VA BHHCS service area; the dates, times, and locations of which will be announced and published at least 14 days prior to the meetings. All written comments on the proposal should be submitted by June 16, 2014. VA will consider all comments received during the 30-day public comment period in determining the scope of the integrated EIS.

ADDRESSES: Submit written comments on VA's notice of intent to prepare an integrated EIS through www.Regulations.gov or vablackhillsfuture@va.gov. Please refer to: “VA BHHCS Notice of Intent to Prepare an Integrated EIS”. Comments may also be submitted to Staff Assistant to the Director, VA Black Hills Health Care System, 113 Comanche Rd., Fort Meade, SD 57741

FOR FURTHER INFORMATION CONTACT: Staff Assistant to the Director, VA BHHCS, at the address above or by telephone, 605-720-7170. Documents related to the VA BHHCS proposed reconfiguration will be available for viewing on the VA BHHCS Web site: http://www.blackhills.va.gov/VABlackHillsFuture/.

SUPPLEMENTARY INFORMATION: In December 2011, VA made public a proposal to improve and reconfigure the Black Hills Health Care System services. The purpose of this proposed action is to enhance and maintain the quality and safety of care for Veterans in the 100,000 square-mile VA BHHCS service area, replace aging buildings for Veterans in Residential Rehabilitation and Treatment Programs (RRTP) and Community-Based Outpatient Clinics (CBOC), increase access to care closer to Veterans' homes, and reduce out-of-pocket expenses for Veterans' travel. VA BHHCS served approximately 18,650 Veterans in fiscal year 2012, a decrease from 20,500 in fiscal year 2009. VA projections estimate that within 10 years VA BHHCS will serve about 19,750 Veterans in the two hospitals (Hot Springs and Fort Meade) and nine CBOCs currently in operation.

The need for the reconfiguration of services is further substantiated by the following facts: (1) Veteran population centers are not in the same location as current VA facilities; (2) Difficulty recruiting and retaining qualified staff at current Hot Springs facility; (3) Difficulty maintaining high-quality, safe, and accessible care; (4) Long distances and travel times to receive specialty care; (5) Current residential treatment facilities and locations limit care available to Veterans; and (6) Higher operating costs than financial allocations.

At VA Hot Springs there are approximately 2,800 Veterans that receive primary care. About 5,500 Veterans visit the facility annually for some aspect of care. The operation of this small, highly rural facility located in a community of approximately 3,900 persons raises concerns about safety, quality of care, sustainability over time, recruitment and retention of staff, and cost of operations and maintenance and upgrades to the facility. Contributing factors are the difficulty complying with rules and laws governing handicapped access, and the increasing age and cost of operating, maintaining and improving buildings ranging from 40 to over 100 years old.

At present, VA has identified seven potential action alternatives to be analyzed in the EIS: Alternative A would involve building/leasing a CBOC in Hot Springs and a Multi-Specialty Outpatient Clinic (MSOC) and 100-bed RRTP in Rapid City. Alternative B would involve building/leasing a 100-bed RRTP in Hot Springs and a MSOC in Rapid City. Alternative C would entail renovating Building 12 for a CBOC and the Domiciliary for a 100-bed RRTP at Hot Springs and building/leasing a MSOC at Rapid City. Alternative D would involve building/leasing a CBOC and 24-bed RRTP at Hot Springs and a MSOC and 76-bed RRTP at Rapid City. Alternative E would involve implementing a proposal put forward by the “Save the VA” committee, a Hot Springs public interest group, to repurpose VA Hot Springs as a multifaceted national demonstration project for Veterans care in a rural environment. Alternative F would be an as yet unidentified alternative use that might be proposed during the EIS process. Supplemental Alternative G would entail repurposing all or part of the Hot Springs campus through an enhanced-use lease or other agreement with another governmental agency or private entity in conjunction with Alternatives A through F. In addition to the above seven action alternatives, the EIS also will evaluate the impacts associated with the No Action or “status quo” alternative (Alternative H) as a basis for comparison to the action alternatives.

Potential issues and impacts to be addressed in the EIS will include, but not be limited to, physical and biological resources, cultural and historic resources, land use, socioeconomics, community services, transportation and parking, and cumulative effects. Relevant and reasonable measures that could alleviate or mitigate adverse effects and impacts also will be included. VA will undertake necessary consultations with other governmental agencies and consulting parties pursuant to the NHPA, Endangered Species Act, Clean Water Act, and other applicable environmental laws. Consultation will include, but not be limited to, the following Federal, Tribal, state, and local agencies: State and Tribal Historic Preservation Officers; U.S. Fish and Wildlife Service; U.S. Environmental Protection Agency; National Park Service; and the Advisory Council on Historic Preservation. Information related to the EIS process, including notices of public scoping and other informational meetings and hearings, will be available for viewing on the VA BHHCS Web site: http://www.blackhills.va.gov/VABlackHillsFuture/

VA anticipates that many of the issues to be addressed in assessing the impacts of the various alternatives will be broadly cultural in character; that is, they will involve potential impacts on the cultural environment as perceived by Veterans, their families, Indian tribes and communities of the area. Such impacts may include, but are not limited to: (a) Impacts on historic properties; (b) impacts on the cultural values ascribed to the Hot Springs and Fort Meade campuses by Veterans, local residents, Indian tribes and others; (c) impacts to ongoing or traditional cultural uses of such locations; and (d) impacts on archaeological, historical, and scientific data.

In the interests of efficiency, completeness, and facilitating public involvement, it is VA's intention that all cultural impacts be addressed together, in consultation with all appropriate parties. To facilitate this inclusive process, VA will incorporate into its NEPA analysis process the review procedures for historic properties usually carried out separately under 36 CFR 800.3 through 6 of the NHPA Section 106 implementing regulations. This process is described in 36 CFR 800.8(c) of those procedures and in the Council on Environmental Quality and Advisory Council on Historic Preservation handbook for integrating NEPA and Section 106 dated March 2013.

Signing Authority

The Secretary of Veterans Affairs, or designee, approved this document and authorized the undersigned to sign and submit the document to the Office of the Federal Register for publication electronically as an official document of the Department of Veterans Affairs. Jose D. Riojas, Chief of Staff, Department of Veterans Affairs, approved this document on May 6, 2014, for publication.

Dated: May 13, 2014.
Robert C. McFetridge,
Director, Regulation Policy and Management, Office of the General Counsel, Department of Veterans Affairs.

[FR Doc. 2014-11316 Filed 5-15-14; 8:45 am]

BILLING CODE 8320-01-P